FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 16183N.

Name: AJ International Shipping/Logistics, Inc.

Address: 4548 Mundy Road, Jacksonville, FL 32207.

Date Revoked: February 6, 2002.

Reason: Failed to maintain valid bond.

License Number: 4088F.

Name: Able Freight Services, Inc.

Address: 5340 W. 104th Street, Los Angeles, CA 90045.

Date Revoked: February 10, 2002.

Reason: Failed to maintain valid bond.

License Number: 4503F

Name: Aimar USA, Inc.

Address: 7500 W. 18th Lane, Hialeah, FL 33014.

Date Revoked: February 11, 2002.

Reason: Failed to maintain a valid bond.

License Number: 3202F.

Name: BWI Transworld Illinois, Inc.

Address: 765 Route 83, Suite 112, Bensenville, IL 60106.

Date Revoked: February 2, 2002.

Reason: Failed to maintain a valid bond.

License Number: 506F.

Name: DBM Logistics, Inc.

Address: 5130 Franklintown Road, Baltimore, MD 21207.

Date Revoked: February 16, 2002.

Reason: Failed to maintain a valid bond.

License Number: 4425F.

Name: Esprit International Shipping Combined Transport, Inc. dba Capital Freight Management.

Address: 701 S. Atlantic Blvd., Suite 200, Monterey Park, CA 91754.

Date Revoked: February 13, 2002.

Reason: Failed to maintain a valid bond.

License Number: 15791N.

Name: Fast Service Inc.

Address: 206 Warren Street, Harrison, NJ 07029.

Date Revoked: February 17, 2002.

Reason: Failed to maintain a valid bond.

License Number: 3968F.

Name: Flamingo Freight Forwarders, Inc.

Address: 9921 NW 80th Avenue, Bay 1-Q, Hialeah Gardens, FL 33016.

Date Revoked: February 22, 2002.

Reason: Failed to maintain a valid bond.

License Number: 17080N.

Name: General Cargo & Logistics.

Address: 4261 182nd Street, Suite J, Torrance, CA 90504.

Date Revoked: February 23, 2002.

Reason: Failed to maintain a valid bond.

License Number: 3886NF.

Name: Goodship International, Inc.

Address: 1058 Tower Lane, Bensenville, IL 60106.

Date Revoked: February 27, 2002.

Reason: Surrendered license voluntarily.

License Number: 16421N.

Name: Korea Express Atlanta, Inc. dba Korea Freight Line, Inc.

Address: 5559 New Peachtree Road, Chamblee, GA 30341.

Date Revoked: February 16, 2002.

Reason: Failed to maintain a valid bond.

License Number: 3217F.

Name: Kremer International Transport, Inc.

Address: 3501 Watson Road, St. Louis, MO 63139.

Date Revoked: February 13, 2002.

Reason: Failed to maintain a valid bond.

License Number: 4547NF.

Name: Millennium Shipping Company.

Address: 4100 East 51st Street, Suite 104, Tulsa, OK 74135.

Date Revoked: February 2, 2002.

Reason: Failed to maintain a valid bond.

License Number: 15292N.

Name: Moon Beam International, Inc.

Address: 2740 Tonawanda Creek Road, Amherst, NY 14228.

Date Revoked: February 13, 2002.

Reason: Failed to maintain a valid bond.

License Number: 1739F.

Name: Ronald D. Stribling dba Ronald D. Stribling Company.

Address: 4110 NE 122nd Avenue, Suite 140, Portland, OR 97230.

Date Revoked: February 13, 2002.

Reason: Failed to maintain a valid bond.

License Number: 13490N.

Name: Sotby Transocean Line, Inc.

Address: 1630 Bath Avenue, Brooklyn, NY 11214.

Date Revoked: January 18, 2002.

Reason: Failed to maintain a valid bond.

License Number: 16655N.

Name: Vayer L.A., Inc.

Address: 11755 Sheldon Street, Sun Valley, CA 91352.

Date Revoked: February 22, 2002.

Reason: Failed to maintain a valid bond.

Ronald D. Murphy,
Deputy Director, Bureau of Consumer Complaints and Licensing.

[FR Doc. 02-6743 Filed 3-19-02; 8:45 am]

BILLING CODE 6730-01-P